DEPARTMENT OF THE INTERIOR

Bureau of Land Management

[LLNVW00000.L7122000.EX0000. LVTFF1906890.19X.MO#4500142522]

Notice of Intent To Prepare a Draft Environmental Impact Statement for the Proposed Lithium Nevada Corp., Thacker Pass Project Proposed Plan of Operations and Reclamation Plan Permit Application, Humboldt County, Nevada; Correction

AGENCY: Bureau of Land Management, Interior.

ACTION: Notice of intent; correction.

SUMMARY: The Bureau of Land Management (BLM) published a document in the Federal Register on January 21, 2020, concerning a request for scoping comments on a draft Environmental Impact Statement (EIS) for the proposed Lithium Nevada Corp., Thacker Pass Project Proposed Plan of Operations and Reclamation Plan Permit Application, Humboldt County, Nevada. The document contained an incorrect website address for the public to submit comments. This notice corrects the website address.

FOR FURTHER INFORMATION CONTACT: For further information contact Mr. Ken Loda, telephone: (775) 623-1500, address: 5100 East Winnemucca Boulevard, Winnemucca, Nevada 89445.

SUPPLEMENTARY INFORMATION:

Correction

In the Federal Register of January 21, 2020, in FR Doc. 2020-00851, on page 3414, in the first column: Correct the ADDRESSES captions to read:

You may submit comments related to the Project by any of the following methods:

• Website: https://bit.ly/2Npgf9l.

• Email: wfoweb@blm.gov, Include Thacker Pass Project EIS Comments in the subject line.

• Fax: (775) 623-1503.

• Mail: 5100 East Winnemucca Boulevard, Winnemucca, NV 89445.

David Kampwerth,
Field Manager, Humboldt River Field Office.

[FR Doc. 2020-02247 Filed 2-4-20; 8:45 am]

BILLING CODE 4310-HC-P